DEPARTMENT OF STATE

[Public Notice 12729]

30-Day Notice of Proposed Information Collection: Overseas Vetting Questionnaire

ACTION: Notice of request for public comment and submission to OMB of proposed collection of information.

SUMMARY: The Department of State has submitted the information collection proposal described below to the Office of Management and Budget (OMB) for approval. In accordance with the Paperwork Reduction Act of 1995 we are requesting comments on this collection from all interested individuals and organizations. The purpose of this Notice is to allow 30 days for public comment.

DATES: Submit comments up to August 25, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Dustin Hanks, who may be reached on 202-949-6965 or at hanksdp@state.gov.

SUPPLEMENTARY INFORMATION:

• Title of Information Collection: Overseas Vetting Questionnaire.

• OMB Control Number: New.

• Type of Request: New collection.

• Originating Office: Office of Personnel Security and Suitability, DS/SI/PSS.

• Form Number: DS-7801.

• Respondents: Individuals subject to Department of State background investigations, reinvestigations, and continuous vetting.

• Estimated Number of Respondents: 25,000.

• Estimated Number of Responses: 25,000.

• Average Time per Response: 70 minutes.

• Total Estimated Burden Time: 29,167 annual hours.

• Frequency: Once per request.

• Obligation to Respond: Voluntary for applicants and required for incumbents.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information solicited on this form will be used to conduct background investigations, reinvestigations, and continuous vetting of persons for eligibility for logical access, physical access, credentialing, and fitness to perform work overseas for or on behalf of the U.S. Government as Locally Employed (LE) Staff and locally-hired third party contractors employed overseas at a U.S. Mission. For applicants, this form is to be used only after a conditional offer of employment has been made. This form is not to be used for national security positions.

Methodology

Respondents will fill out a brief customer survey after completing their interaction with a Department Program Office or Embassy. Surveys are designed to gather feedback on the customer's experiences.

Brian L. Mason,
Division Chief, Operations, Bureau of Diplomatic Security, Department of State.

[FR Doc. 2025-14075 Filed 7-24-25; 8:45 am]

BILLING CODE 4710-43-P